DEPARTMENT OF ENERGY

International Energy Agency Meetings

AGENCY: Department of Energy.

ACTION: Notice of meetings.

SUMMARY: The Industry Advisory Board (IAB) to the International Energy Agency (IEA) will meet on September 27-29, 2016, at the Conference Centre of the French Ministry of Foreign Affairs, 27, Rue de la Convention, 75015 Paris, France, in connection with a joint meeting of the IEA's Standing Group on Emergency Questions (SEQ) and the IEA's Standing Group on the Oil Market (SOM) on September 27, 2016, in connection with a meeting of the SEQ on that day and on September 28, 2016. There will also be a meeting involving members of the IAB in connection with the IEA's 8th Emergency Response Exercise (ERE8) for SEQ delegates only to be held at the same location on September 29, 2016.

DATES: September 27-29, 2016.

ADDRESSES: 27, Rue de la Convention, 75015 Paris, France.

FOR FURTHER INFORMATION CONTACT: Thomas Reilly, Assistant General Counsel for International and National Security Programs, Department of Energy, 1000 Independence Avenue SW., Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the Conference Centre of the French Ministry of Foreign Affairs, 27, Rue de la Convention, 75015 Paris, France, commencing at 9:30 a.m. on September 28, 2016. The purpose of this notice is to permit attendance by representatives of U.S. company members of the IAB at a meeting of the IEA's Standing Group on Emergency Questions (SEQ), which is scheduled to be held at the same location and time. The IAB will also hold a preparatory meeting among company representatives at the same location at 8:30 a.m. on September 28. The agenda for this preparatory meeting is to review the agenda for the SEQ meeting.

The agenda of the SEQ meeting is under the control of the SEQ. It is expected that the SEQ will adopt the following agenda:

Draft Agenda of the 149th Meeting of the SEQ to be held at the Conference Centre of the French Ministry of Foreign Affairs, 27, Rue de la Convention, 75015 Paris, France, 13 September 2016, beginning at 9:30 a.m.:

1. Adoption of the Agenda

2. Approval of the Summary Record of the 148th Meeting

3. Status of Compliance with IEP Agreement Stockholding Obligations

4. Australia Return to Compliance Update

5. Bilateral Stockholding in non-OECD Countries Report

6. “Oil Umbrella” Concept Next Steps

7. Oral Reports by Administration

8. Gas Resiliency Assessment of Japan

9. Emergency Response Review of Switzerland

10. ERR Programme & Preparations for New 2018-23 ERR Cycle

11. Changes to the IDR process

12. Industry Advisory Board Update

13. Mid-Term Review of Belgium

14. Report on ERE8 Main Exercise

15. Review of EU Oil Stocks Directive

16. Mexican Accession & Outreach Activities

17. Legal Study Update

18. Other Business

Schedule of SEQ and SOM Meetings, 2017 Provisional Dates:

—21-23 March 2017

—13-15 June 2017

—12-14 September 2017

A meeting of the Industry Advisory Board (IAB) to the International Energy Agency (IEA) will be held at the Conference Centre of the French Ministry of Foreign Affairs, 27, Rue de la Convention, 75015 Paris, France, commencing at 14:00 on September 27, 2016. The purpose of this notice is to permit attendance by representatives of U.S. company members of the IAB at a joint meeting of the IEA's Standing Group on Emergency Questions (SEQ) and the IEA's Standing Group on the Oil Market (SOM), which is scheduled to be held at the same location and time.

The agenda of the meeting is under the control of the SEQ and the SOM. It is expected that the SEQ and the SOM will adopt the following agenda:

Draft Agenda of the Joint Session of the SEQ and the SOM to be held at the Conference Centre of the French Ministry of Foreign Affairs, 27, Rue de la Convention, 75015 Paris, France, 27 September 2016, beginning at 14:00:

Introduction

19. Adoption of the Agenda

20. Approval of Summary Record of 31 May 2016

21. Reports on Recent Oil Market and Policy Developments in IEA Countries

22. Report by EIO on the “World Energy Investment—2016” followed by Q & A

23. The Current Oil Market Situation “Presentation of OMR SEP 2016” followed by Q & A

24. Presentation on “Panama Canal Expansion”, followed by Q & A

25. Presentation on the “WEO Energy and Air Pollution special report” followed by Q & A.

26. Other Business

—Tentative schedule of upcoming SEQ and SOM meetings on:

—21-23 March 2017, location TBC

A meeting involving members of the Industry Advisory Board (IAB) to the International Energy Agency (IEA) in connection with the IEA's 8th Emergency Response Exercise (ERE8) for SEQ Delegates Only (EXSEQ) will be held at the Conference Centre of the French Ministry of Foreign Affairs, 27, Rue de la Convention, 75015 Paris, France, on September 29, 2016. ERE8 will be held from 9:30 a.m.-3:30 p.m. on September 29, 2016. The purpose of ERE8 is to train IEA Government delegates in the use of IEA emergency response procedures by reacting to a hypothetical oil and gas supply disruption scenario.

ERE8 will involve break-out groups, the constitution of which is under the control of the IEA. The IEA anticipates that individual break-out groups will not include multiple IAB or Reporting Company representatives that would qualify them as separate “meetings” within the meaning of the Voluntary Agreement, and accordingly attendance by additional full-time federal employees to monitor individual break-out groups is not expected to be required.

The agenda for ERE8 is under the control of the IEA. It is expected that the IEA will adopt the following agenda:

Draft Agenda of the 2016 Eighth Emergency Response Exercise (ERE8) for SEQ Delegates Only (EXSEQ), 29 September 2016, Conference Centre of the French Ministry of Foreign Affairs, 27, Rue de la Convention, 75015 Paris, France:

Introduction to Supply Disruption Scenario 1

—Introduction & presentation of oil and gas scenario

Discussion/Analysis of Expected Market Reactions

Discussion/Analysis of Expected Market Reactions

Breakout Discussion

Plenary Discussion

Closing Remarks

End of Exercise

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA. Meetings for ERE8 are open only to SEQ delegates, as well as to representatives of the Directorate-General for Competition of the European Commission and representatives of members of the IEA Group of Reporting Companies may attend the meeting as observers. The meeting will also be open to representatives of the Secretary of Energy, the Secretary of State, the Attorney General, and the Federal Trade Commission severally, to any United States Government employee designated by the Secretary of Energy, and to the representatives of Committees of the Congress.

Issued in Washington, DC, September 15, 2016.
Thomas Reilly,
Assistant General Counsel for International and National Security Programs.

[FR Doc. 2016-22610 Filed 9-19-16; 8:45 am]

BILLING CODE 6450-01-P